BUREAU OF CONSUMER FINANCIAL PROTECTION

[Docket No: CFPB-2014-0020]

Agency Information Collection Activities: Comment Request

AGENCY: Bureau of Consumer Financial Protection.

ACTION: Notice and request for comment.

SUMMARY: In accordance with the Paperwork Reduction Act of 1995 (PRA), the Consumer Financial Protection Bureau (Bureau) is proposing a new information collection titled, “Teacher Training Initiative (TTI) Local Education Agencies (LEA) Partnership Application.”

DATES: Written comments are encouraged and must be received on or before October 20, 2014 to be assured of consideration.

ADDRESSES: You may submit comments, identified by the title of the information collection, OMB Control Number (see below), and docket number (see above), by any of the following methods:

• Electronic: http://www.regulations.gov. Follow the instructions for submitting comments.

• Mail: Consumer Financial Protection Bureau (Attention: PRA Office), 1700 G Street NW., Washington, DC 20552.

• Hand Delivery/Courier: Consumer Financial Protection Bureau (Attention: PRA Office), 1275 First Street NE., Washington, DC 20002.

Please note that comments submitted by fax or email and those submitted after the comment period will not be accepted. In general, all comments received will be posted without change to regulations.gov, including any personal information provided. Sensitive personal information, such as account numbers or social security numbers, should not be included.

FOR FURTHER INFORMATION CONTACT: Documentation prepared in support of this information collection request is available at www.regulations.gov (Docket number: CFPB-2014-0020). Requests for additional information should be directed to the Consumer Financial Protection Bureau, (Attention: PRA Office), 1700 G Street NW., Washington, DC 20552, (202) 435-9575, or email: PRA@cfpb.gov. Please do not submit comments to this mailbox.

SUPPLEMENTARY INFORMATION: Title of Collection: Teacher Training Initiative (TTI) Local Education Agencies (LEA) Partnership Application.

OMB Control Number: 3170-XXXX.

Type of Review: New collection (Request for a new OMB control number).

Affected Public: State, Local, or Tribal governments (Local Education Agencies).

Estimated Number of Respondents: 100.

Estimated Total Annual Burden Hours: 200.

Abstract: The Bureau plans to seek Office of Management and Budget approval to collect application information from LEAs interesting in partnering with the Bureau to design and implement a model for training K-12 teachers to teach and/or incorporate financial education concepts in their curriculum. The goal of the Initiative is to identify ways to improve and sustain youth financial capabilities by training and supporting teachers at the LEA-level to teach relevant financial concepts. Additional information may be obtained as described in the FOR FURTHER INFORMATION CONTACT section above.

Request for Comments: Comments are invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be summarized and/or included in the request for Office of Management and Budget (OMB) approval. All comments will become a matter of public record.

Dated: August 13, 2014.
Ashwin Vasan,
Chief Information Officer, Bureau of Consumer Financial Protection.

[FR Doc. 2014-19736 Filed 8-19-14; 8:45 am]

BILLING CODE 4810-AM-P